Title 3—

The President

Proclamation 8258 of May 20, 2008

A Day of Solidarity With the Cuban People, 2008

By the President of the United States of America

A Proclamation

Freedom of speech, freedom of assembly, and freedom of worship are among the liberties that Americans cherish. Our Nation fully supports the brave people who work to secure these liberties in the countries where they are denied. And on this Day of Solidarity with the Cuban People, we focus our attention on the men and women working to secure freedom, democracy, and human rights for the citizens of Cuba.

For half a century, the Cuban people have suffered under oppressive dictatorship. Under the rule of Fidel and Raul Castro, Cubans have seen their political freedoms denied, their economy reduced to shambles, and their families torn apart. The Cuban people deserve better—and the American people stand with them as they work to achieve it.

The United States is rallying the free world to the cause of Cuban liberty. We continue to shine a bright light on the Castro regime's abuses—and America calls on the Government of Cuba to immediately and unconditionally release all prisoners of conscience.

We keep these prisoners, their families, and all Cubans in our prayers. Especially on this Day of Solidarity, we ask the Almighty to comfort and strengthen those who suffer under the Castro dictatorship—and to hasten the day when Cuba's suffering comes to an end.

NOW, THEREFORE, I, GEORGE W. BUSH, President of the United States of America, by virtue of the authority vested in me by the Constitution and laws of the United States, do hereby proclaim May 21, 2008, as A Day of Solidarity with the Cuban People to recognize those who are suffering in Cuba, especially Cuba's prisoners of conscience. I call upon the citizens of the United States to mark this observance with appropriate ceremonies and activities that demonstrate America's resolute support for those living under the Castro regime.

IN WITNESS WHEREOF, I have hereunto set my hand this twentieth day of May, in the year of our Lord two thousand eight, and of the Independence of the United States of America the two hundred and thirty-second.

[FR Doc. 08-1296

Filed 5-22-08; 8:45 am]

Billing code 3195-01-P